DEPARTMENT OF LABOR

Employment and Training Administration

[TA-W-63,648]

Hanesbrands Inc., Oak Summit Division, Winston-Salem, NC; Notice of Termination of Investigation

Pursuant to Section 221 of the Trade Act of 1974, as amended, an investigation was initiated on July 8, 2008 in response to a worker petition filed on behalf of workers of Hanesbrands Inc., Oak Summit Division, Winston-Salem, North Carolina.

The petitioning group of workers is covered by an active certification, (TA-W-61,962A) which expires on September 13, 2009. Consequently, further investigation in this case would serve no purpose, and the investigation has been terminated.

Signed at Washington, DC, this 28th day of July 2008.
Linda G. Poole,
Certifying Officer, Division of Trade Adjustment Assistance.

[FR Doc. E8-17888 Filed 8-4-08; 8:45 am]

BILLING CODE 4510-FN-P